FEDERAL COMMUNICATIONS COMMISSION

47 CFR Part 80

[PR Docket No. 92-257; RM-9664; DA 04-1608]

Amendment of the Commission's Rules Concerning Maritime Communications

AGENCY: Federal Communications Commission.

ACTION: Correcting amendments.

SUMMARY: This document contains corrections to the final regulations which were published in the Federal Register of Thursday, July 25, 2002 (67 FR 48560). The regulations related to licensing of Automated Maritime Telecommunication System stations.

DATES: Effective July 26, 2004.

FOR FURTHER INFORMATION CONTACT: Scot Stone, Public Safety and Critical Infrastructure Division at (202) 418-0680.

SUPPLEMENTARY INFORMATION:

Background

The final regulations determined that unassigned Automated Maritime Telecommunications System spectrum would be made available for licensing throughout the United States by ten Automated Maritime Telecommunications System Areas (AMTSAs). Each AMTSA consists of one or more of the 174 Economic Areas (EAs) or EA-like areas in International Telecommunication Region 2—i.e., the 172 EAs specified by the Department of Commerce and the Commission-created EA-like areas for Puerto Rico and the United States Virgin Islands (EA 174) and the Gulf of Mexico (EA 176). However, § 80.385(a)(3) of the Commission's Rules did not include a reference to the perimeter of EA 176.

Need for Correction

As published, § 80.385(a)(3) does not refer to the perimeter of EA 176, which may prove to be misleading and needs to be clarified. In addition, the second column of the table in § 80.385(a)(2), as published in the Federal Register was misaligned, beginning with Channel 149, and needs to be corrected.

List of Subjects in 47 CFR Part 80

Communications equipment, Radio, Reporting and recordkeeping requirements.

Federal Communications Commission.
William F. Caton,
Deputy Secretary.

Accordingly, 47 CFR part 80 is corrected by making the following correcting amendments.

PART 80—MARITIME SERVICES

1. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

2. Revise paragraphs (a)(2) and (a)(3) of § 80.385 to read as follows:

§ 80.385 Frequencies for automated systems.

* * * * *

(a) * * *

(2) The following carrier frequencies are available for assignment to public coast stations for public correspondence communications with ship stations and units on land. AMTS operations must not cause harmful interference to the U.S. Navy SPASUR system which operates in the band 216.880-217.080 MHz.

Channel No. | Carrier frequency (MHz): Ship transmit 1 3 | Carrier frequency (MHz): Coast transmit ² | Carrier frequency (MHz): Group
101 |  | 216.0125 | D
102 |  | 216.0375 |
103 |  | 216.0625 |
104 |  | 216.0875 |
105 |  | 216.1125 |
106 |  | 216.1375 |
107 |  | 216.1625 |
108 |  | 216.1875 |
109 |  | 216.2125 |
110 |  | 216.2375 |
111 |  | 216.2625 |
112 |  | 216.2875 |
113 |  | 216.3125 |
114 |  | 216.3375 |
115 |  | 216.3625 |
116 |  | 216.3875 |
117 |  | 216.4125 |
118 |  | 216.4375 |
119 |  | 216.4625 |
120 |  | 216.4875 |
121 |  | 216.5125 | C
122 |  | 216.5375 |
123 |  | 216.5625 |
124 |  | 216.5875 |
125 |  | 216.6125 |
126 |  | 216.6375 |
127 |  | 216.6625 |
128 |  | 216.6875 |
129 |  | 216.7125 |
130 |  | 216.7375 |
131 |  | 216.7625 |
132 |  | 216.7875 |
133 |  | 216.8125 |
134 |  | 216.8375 |
135 |  | 216.8625 |
136 |  | 216.8875 |
137 |  | 216.9125 |
138 |  | 216.9375 |
139 |  | 216.9625 |
140 |  | 216.9875 |
141 | 219.0125 | 217.0125 | B
142 | 219.0375 | 217.0375
143 | 219.0625 | 217.0625 |
144 | 219.0875 | 217.0875 |
145 | 219.1125 | 217.1125 |
146 | 219.1375 | 217.1375 |
147 | 219.1625 | 217.1625 |
148 | 219.1875 | 217.1875 |
149 | 219.2125 | 217.2125 |
150 | 219.2375 | 217.2375
151 | 219.2625 | 217.2625 |
152 | 219.2875 | 217.2875 |
153 | 219.3125 | 217.3125 |
154 | 219.3375 | 217.3375 |
155 | 219.3625 | 217.3625 |
156 | 219.3875 | 217.3875 |
157 | 219.4125 | 217.4125 |
158 | 219.4375 | 217.4375 |
159 | 219.4625 | 217.4625 |
160 | 219.4875 | 217.4875 |
161 | 219.5125 | 217.5125 | A
162 | 219.5375 | 217.5375
163 | 219.5625 | 217.5625 |
164 | 219.5875 | 217.5875 |
165 | 219.6125 | 217.6125 |
166 | 219.6375 | 217.6375 |
167 | 219.6625 | 217.6625 |
168 | 219.6875 | 217.6875 |
169 | 219.7125 | 217.7125 |
170 | 219.7375 | 217.7375 |
171 | 219.7625 | 217.7625 |
172 | 219.7875 | 217.7875 |
173 | 219.8125 | 217.8125 |
174 | 219.8375 | 217.8375 |
175 | 219.8625 | 217.8625 |
176 | 219.8875 | 217.8875 |
177 | 219.9125 | 217.9125 |
178 | 219.9375 | 217.9375 |
179 | 219.9625 | 217.9625 |
180 | 219.9875 | 217.9875 |
¹ Ship transmit frequencies in Groups C and D are not authorized for AMTS use.
² Coast station operation on frequencies in Groups C and D are not currently assignable and are shared on a secondary basis with the Low Power Radio Service in part 95 of this chapter. Frequencies in the band 216.750-217.000 MHz band are available for low power point-to-point network control communications by AMTS coast stations under the Low Power Radio Service (LPRS). LPRS operations are subject to the conditions that no harmful interference is caused to the United States Navy's SPASUR radar system (216.88-217.08 MHz) or to TV reception within the Grade B contour of any TV channel 13 station or within the 68 dBu predicted contour of any low power TV or TV translator station operating on channel 13.
³ Ship transmit frequencies in Groups A and B are permitted to provide mobile-to-mobile communications where the written consent of all affected licensees is obtained.

(3) As listed in the table in this paragraph, AMTS Areas (AMTSAs) are based on, and composed of one or more of, the U.S Department of Commerce's 172 Economic Areas (EAs). See 60 FR 13114 (March 10, 1995). In addition, the Commission shall treat Puerto Rico, the United States Virgin Islands, and the Gulf of Mexico as EA-like areas. The Gulf of Mexico EA extends from 12 nautical miles off the United States Gulf coast outward into the Gulf. See § 27.6(a)(2) of this chapter and 62 FR 9636. Maps of the EAs and AMTSAs are available for public inspection and copying at the Federal Communications Commission, Reference Center, 445 12th Street, SW., Room CY A257, Washington, DC 20554. These maps and data are also available on the FCC Web site at www.fcc.gov/oet/info/maps/areas/. The Group A and B frequency pairs listed in the table in paragraph (a)(2) of this section are available for assignment to a single licensee in each of the AMTSAs listed in the table in this paragraph. In addition to the listed EAs listed in the table in this paragraph, each AMTSA also includes the adjacent waters under the jurisdiction of the United States.

AMTS areas (AMTSAs)
AMTSAs | EAs
1 (Northern Atlantic) | 1-5, 10 9, 11-23, 25, 42, 46
2 (Mid-Atlantic) | 24, 26-34, 37, 38, 40, 41, 174
3 (Southern Atlantic) | 35, 36, 39, 43-45, 47-53, 67-107, 113, 116-120, 122- 125, 127, 130-134, 176 6-8, 54-66, 108, 109
4 (Mississippi River) | 160-165 147, 166-170
5 (Great Lakes) | 172
6 (Southern Pacific) | 171 110-112, 114-115, 121, 126, 128, 129, 135-146, 148-159
7 (Northern Pacific)
8 (Hawaii)
9 (Alaska)
10 (Mountain)

* * * * *

[FR Doc. 04-16892 Filed 7-23-04; 8:45 am]

BILLING CODE 6712-01-P